FEDERAL MARITIME COMMISSION

Sunshine Act Meeting

Agency Holding the Meeting: Federal Maritime Commission.

Time and Date: 10 a.m. September 20, 2000.

Place: 800 North Capitol Street, NW., First Floor Hearing Room, Washington, DC.

Status: A portion of the meeting will be open to the public and the remainder of the meeting will be closed.

Matters to be Considered:

The Open Portion of the Meeting

1. Docket No. 00-07—Advance Notice of Proposed Rulemaking Concerning Public Access Charges to Carrier Automated Tariffs and Tariff Systems under the Ocean Shipping Reform Act of 1998.

2. Petition No. P1-00—Petition of the Port of Houston Authority for the Institution of a Rulemaking Proceeding.

The Closed Portion of the Meeting

1. Docket No. 99-24—Cargo One, Inc. v. COSCO Container Lines Company, Ltd., Interlocutory Appeal of the ALJ's Denial of COSCO's Motion to Dismiss.

Contact Person for more Information: Bryant L. VanBrakle, Secretary, (202) 523-5725.

Bryant L. VanBrakle,
Secretary.

[FR Doc. 00-23907 Filed 9-13-00; 1:37 pm]

BILLING CODE 6730-01-M